POSTAL SERVICE

International Product Change—GEPS 10 Contracts

AGENCY: Postal Service™.

ACTION: Notice.

SUMMARY: The Postal Service gives notice of filing a request with the Postal Regulatory Commission to add Global Expedited Package Services 10 to the Competitive Products List.

DATES: Date of notice: August 21, 2018.

FOR FURTHER INFORMATION CONTACT: Kyle R. Coppin, (202) 268-2368.

SUPPLEMENTARY INFORMATION: The United States Postal Service® hereby gives notice that, pursuant to 39 U.S.C. 3642, on August 15, 2018, it filed with the Postal Regulatory Commission a Request of The United States Postal Service to add Global Expedited Package Services 10 to the Competitive Products List. Documents are available at www.prc.gov, Docket Nos. MC2018-207 and CP2018-289.

Christopher C. Meyerson,
Attorney, Corporate and Postal Business Law.

[FR Doc. 2018-17968 Filed 8-20-18; 8:45 am]

BILLING CODE 7710-12-P